DEPARTMENT OF HEALTH AND HUMAN SERVICES

Substance Abuse and Mental Health Services Administration

Fiscal Year (FY) 2011 Funding Opportunity

AGENCY: Substance Abuse and Mental Health Services Administration, HHS.

ACTION: Notice of intent to award to the National Council for Behavioral Healthcare.

SUMMARY: This notice is to inform the public that the Substance Abuse and Mental Health Services Administration (SAMHSA) intends to award approximately $3,800,000 (total costs) for up to one year to the National Council for Behavioral Healthcare. This is not a formal request for applications. Assistance will be provided only to the National Council for Behavioral Healthcare based on the receipt of a satisfactory application that is approved by an independent review group.

Funding Opportunity Title: SM-11-013.

Catalog of Federal Domestic Assistance (CFDA) Number: 93.243.

Authority: Section 520(A) of the Public Health Service Act, as amended.

Justification: Eligibility for this funding opportunity is limited to the National Council for Community Behavioral Healthcare (NCCBH) based on the Council's expertise and existing relationship with the Primary and Behavioral Health Care Initiative (PBHCI) grantees.

The NCCBH, the current Training and Technical Assistance Center for Primary and Behavioral Health Care Initiative (TTA-PBHCI) grantee, has an existing relationship with the 56 PBHCI grantees, for whom half of the technical assistance will be developed. It already has the infrastructure established to provide day-to-day training and technical assistance (both onsite and e-based). The NCCBH also has the contacts and staff required to select and manage selected state-designated entities (SDEs) and provide the required technical assistance to them.

Since supplemental funding is for one-year, it is critical that the applicant be able to quickly and effectively initiate the activities required by the cooperative agreement and the PBHCI HIT grant. The NCCBH has the foundation in place to make the best use of the short period of time available. There is no other organization with the experience or background to ensure that the objectives will be met and accurate outcome measurements will be gathered through performance data. The Council has been involved in providing health information technology information/resources to its 1400+ members and has existing affiliations with IT systems that are acknowledged leaders in the field.

FOR FURTHER INFORMATION CONTACT: Shelly Hara, Substance Abuse and Mental Health Services Administration, 1 Choke Cherry Road, Room 8-1095, Rockville, MD 20857; telephone: (240) 276-2321; E-mail: shelly.hara@samhsa.hhs.gov.

Cathy Friedman,
SAMHSA Public Health Analyst.

[FR Doc. 2011-19860 Filed 8-4-11; 8:45 am]

BILLING CODE 4162-20-P